DEPARTMENT OF THE INTERIOR

Fish and Wildlife Service

[FWS-R4-R-2009-N251; 40136-1265-0000-S3]

Central Arkansas National Wildlife Refuge Complex, Arkansas

AGENCY: Fish and Wildlife Service, Interior.

ACTION: Notice of availability: final comprehensive conservation plan and finding of no significant impact.

SUMMARY: We, the U.S. Fish and Wildlife Service (Service), announce the availability of our final comprehensive conservation plan (CCP) and finding of no significant impact (FONSI) for the environmental assessment for the Central Arkansas National Wildlife Refuge (NWR) Complex, consisting of Bald Knob, Big Lake, Cache River, and Wapanocca National Wildlife Refuges. In the final CCP, we describe how we will manage the Central Arkansas NWR Complex over the next 15 years.

ADDRESSES: You may obtain a copy of the CCP by writing to: Mr. William R. Smith, Planning Team Leader, Central Arkansas National Wildlife Refuge Complex, 26320 Highway 33 South, Augusta, AR 72006. You may also access and download the document from the Service's Internet Web site: http://southeast.fws.gov/planning/ under “Final Documents.”

FOR FURTHER INFORMATION CONTACT: Mr. William R. Smith; telephone: 870/347-2074; fax: 870/347-2908; e-mail: william_r_smith@fws.gov.

SUPPLEMENTARY INFORMATION:

Introduction

With this notice, we finalize the CCP process for the Central Arkansas NWR Complex. We started this process through a notice in the Federal Register on January 3, 2007 (72 FR 142). For more about the process, please see that notice.

The Central Arkansas NWR Complex is comprised of Bald Knob, Big Lake, Cache River, and Wapanocca National Wildlife Refuges. These four refuges are in eastern and central Arkansas and together encompass approximately 99,100 acres.

Significant issues identified in the CCP include management of the following: (1) Waterfowl, other migratory birds, and other native wildlife species; (2) bottomland hardwood reforestation; (3) moist-soil impoundments and croplands; (4) water quality; (5) invasive species; (6) land acquisition; and (7) visitor services (e.g., hunting, fishing, wildlife observation, wildlife photography, environmental education and interpretation, access, and facilities).

Bald Knob National Wildlife Refuge

Bald Knob National Wildlife Refuge (NWR), near the town of Bald Knob in White County, Arkansas, was established in 1993 to protect and provide feeding and resting areas for migrating waterfowl, and now totals 16,100 acres of forested wetlands, moist-soil impoundments, and croplands. The refuge hosts one of the largest populations of wintering pintails in the State and is a crucial staging area for pintails migrating to the coastal areas of Louisiana and eastern Texas. The refuge has been named as an “Important Birding Area” by the Audubon Arkansas Board of Directors.

Big Lake National Wildlife Refuge

Big Lake National Wildlife Refuge (NWR), near the town of Manila in Mississippi County, Arkansas, was established in 1915 by executive order of President Woodrow Wilson, to serve as a reserve and breeding ground for native birds. The refuge encompasses 11,038 acres of lake and swamp habitats, including the 2,144-acre Big Lake Wilderness. Big Lake NWR provides important migratory bird habitat and is designated as a “National Natural Landmark Area.” The American Bird Conservancy also has listed the refuge as a “Globally Important Bird Area.”

Cache River National Wildlife Refuge

Cache River National Wildlife Refuge (NWR), near the towns of Augusta and Brinkley, Arkansas, was established in 1986 to provide critical wintering habitat for waterfowl and other migratory and resident wildlife species. Cache River NWR presently encompasses 66,350 acres of an approved land acquisition boundary of 185,574 acres within Jackson, Monroe, Prairie, and Woodruff Counties. Cache River NWR features some of the largest remaining tracts of bottomland hardwood forests within the Mississippi Alluvial Valley, and is designated as a “Wetland of International Importance.” Cache River NWR is noted as part of the most important wintering habitats for mallards in North America.

Wapanocca National Wildlife Refuge

Wapanocca National Wildlife Refuge (NWR) is 20 miles northwest of Memphis, Tennessee, and near the town of Turrell, in Crittenden County, Arkansas. It was established in 1961 to provide a wintering area for migratory waterfowl, and presently encompasses 5,620 acres of agricultural land, grassland, bottomland hardwood forest, and flooded cypress/willow swamp. The refuge is important as a nesting area for resident wood ducks and provides significant habitat along the Mississippi River that is heavily used by migrating and wintering waterfowl. The American Bird Conservancy has listed the refuge as a “Continentally Important Bird Area.”

Alternatives, Including the Preferred Alternative

A planning team comprised of Service personnel, State agency representatives, non-governmental organizations, and others developed three alternatives for managing the refuges over the next 15 years and chose Alternative C as the preferred alternative. A description of the three alternatives follows.

Alternative A—Maintain Current Management (No Action Alternative)

Under Alternative A, the “No Action” alternative, management would not change from the current actions and direction. We would continue to restore, protect, and manage bottomland hardwood forests, wetlands, cropland units, moist-soil units, open water areas, grassland/scrub-shrub areas, and the Big Lake Wilderness. We would continue to focus management activities on afforestation and reforestation, restoration of wetlands, invasive plants and nuisance animals, cooperative farming, inventorying and monitoring, and priority public uses (e.g., hunting, fishing, wildlife observation, wildlife photography, and environmental education and interpretation). We would acquire land from willing sellers, but only within the approved acquisition boundaries.

Alternative B—Minimal Management Alternative

Under Alternative B, the “Minimal Management” alternative, we would undertake minimal wildlife, habitat, and infrastructure management. In this “let nature take its course” alternative, there would be no more active reforestation efforts, no moist-soil impoundments and croplands, and no more road, beaver dam, or invasive species management and maintenance programs. Natural succession would be allowed to proceed unchecked, providing for development of early stage or successional forest habitat on abandoned lands, and no silvicultural treatments in existing forest stands would be conducted. All refuges would implement a custodial or passive stewardship approach to management and would monitor natural succession and wildlife populations over time. Quality and quantity of habitats for wildlife would be expected to decline, along with wildlife use of these habitats. There would likely be reduced associated public use, because roadways and facilities would not be maintained and the quality of visitor services would diminish. There would be no change in the acreage or amount of waterfowl sanctuaries. We would acquire land from willing sellers, but only within the approved acquisition boundaries.

Alternative C—Enhanced Habitat Management and Public Use Programs (Preferred Alternative)

By implementing Alternative C, the “Preferred” alternative, we will actively expand and improve habitat management and public use programs. We will intensify and enhance forest, moist-soil, scrub-shrub, grassland, and aquatic management programs in order to increase benefits for waterfowl, shorebirds, water birds, other migratory birds, and other species of native wildlife. Hydrologic, wetland, and forest restoration projects will also be expanded. Invasive plant and animal control projects will be increased. A full range of programs involving inventorying, monitoring, and researching will be developed and implemented to enable adaptive management. Habitat conservation and restoration will continue and expand through land acquired from willing sellers, but boundary expansions will also be pursued. Environmental education and interpretive programs will be improved as part of a comprehensive visitor services program. Opportunities for hunting, fishing, and wildlife observation will be expanded, and law enforcement coverage will be increased for more effective protection of resources and visitors. Additional staff will be recruited, additional equipment will be acquired, and improved facilities will be installed to enable implementation of these projects and programs.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We solicited comments on the Draft Comprehensive Conservation Plan and Environmental Assessment (Draft CCP/EA) for the Central Arkansas NWR Complex for 30 days, as announced in the Federal Register on August 27, 2009 (74 FR 43716). A total of 24 individuals, representing landowners, citizens, conservation organizations, and State and Federal government agencies, attended 5 public meetings to discuss the Draft CCP/EA and 14 respondents provided comments. We reviewed all comments and have included them with our responses in the CCP.

Selected Alternative

We selected Alternative C, the planning team's preferred alternative, as the most reasonable alternative to implement the CCP. Under Alternative C, habitat and public use management will be enhanced and expanded overall, providing additional or increased benefits to refuge resources and visitor services and greater fulfillment of refuge purposes. With the implementation of Alternative C, the capacity and capability of the refuges to better manage the habitat and wildlife resources and to provide visitor services will greatly increase compared to Alternatives A or B. The additions to staffing and improvements to facilities under Alternative C will enhance effective refuge administration and visitor services.

Authority: This notice is published under the authority of the National Wildlife Refuge System Improvement Act of 1997, Public Law 105-57.

Dated: December 15, 2009.
Patrick Leonard,
Acting Regional Director.

[FR Doc. 2010-5071 Filed 3-9-10; 8:45 am]

BILLING CODE 4310-55-P